DEPARTMENT OF COMMERCE

National Oceanic and Atmospheric Administration

[RTID 0648-XA050]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a meeting of its Law Enforcement Technical Committee (LETC), in conjunction with the Gulf States Marine Fisheries Commission's Law Enforcement Committee (LEC).

DATES: The meeting will convene on Wednesday, March 11, 2020; beginning at 8:30 a.m. and adjourn no later than 5 p.m.

ADDRESSES:

Meeting address: The meeting will be held at The Lodge at Gulf State Park, located at 21196 East Beach Boulevard, Gulf Shores, AL 36542; telephone: (251) 540-4000.

Council address: Gulf of Mexico Fishery Management Council, 4107 W Spruce Street, Suite 200, Tampa, FL 33607; telephone: (813) 348-1630.

FOR FURTHER INFORMATION CONTACT: Dr. Ava Lasseter, Anthropologist, Gulf of Mexico Fishery Management Council; ava.lasseter@gulfcouncil.org, telephone: (813) 348-1630, and Mr. Steve VanderKooy, Inter-jurisdictional Fisheries (IJF) Coordinator, Gulf States Marine Fisheries Commission; svanderkooy@gsmfc.org, telephone: (228) 875-5912.

SUPPLEMENTARY INFORMATION: The items of discussion on the agenda are as follows:

Joint Gulf Council's Law Enforcement Technical Committee (LETC) and Gulf States Marine Fisheries Commission's Law Enforcement Committee (LEC) Meeting Agenda, Wednesday, March 11, 2019, 8:30 a.m. Until 5 p.m.

The joint meeting will begin with introductions, adoption of agenda, and approval of minutes from the Joint LEC/LETC meeting on October 16, 2019.

The Gulf Council LETC will review nominations for the Officer/Team of the Year Award in a brief CLOSED SESSION. They will discuss coordinating responses regarding the federal report that negatively identified Mexico for Illegal, Unreported, and Unregulated (IUU) fishing; receive an update on the Southeast For-Hire Integrated Electronic Reporting (SEFHIER) implementation timeline; and discuss illegal charters. LETC will discuss a proposal to close the Madison-Swanson and Steamboat Lumps MPAs to trolling; review information on the proposal for the Florida Keys National Marine Sanctuary Proposed Expansion; and discuss enforcement of Red Snapper state management. And, discuss any Other Business items.

The GSMFC LEC will outline revisions to the LETC/LEC 2021-22 Operations Plan; and review the IJF Program Activity for the status of the Red Drum Profile, law enforcement membership for the Mangrove Snapper Profile, Annual License and Fees, and Law Summary (red book).

The committee will present the State Report Highlights from Florida, Alabama, Mississippi, Louisiana, Texas, U.S. Coast Guard (USCG), NOAA Office of Law Enforcement (OLE), and U.S. Fish and Wildlife Service (USFWS); and will discuss any Other Business items.

—Meeting Adjourns

The Agenda is subject to change, and the latest version along with other meeting materials will be posted on www.gulfcouncil.org as they become available.

The Law Enforcement Technical Committee consists of principal law enforcement officers in each of the Gulf States, as well as the NOAA OLE, USFWS, the USCG, and the NOAA Office of General Counsel for Law Enforcement.

Although other non-emergency issues not on the agenda may come before this group for discussion, in accordance with the Magnuson-Stevens Fishery Conservation and Management Act, those issues may not be the subject of formal action during this meeting. Actions will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council office (see ADDRESSES), at least 5 working days prior to the meeting.

Authority: 16 U.S.C. 1801 et seq.

Dated: February 18, 2020.
Tracey L. Thompson,
Acting Deputy Director, Office of Sustainable Fisheries, National Marine Fisheries Service.

[FR Doc. 2020-03496 Filed 2-20-20; 8:45 am]

BILLING CODE 3510-22-P